DEPARTMENT OF HOMELAND SECURITY

Coast Guard

33 CFR Part 165

[Docket Number USCG-2017-0338]

Regulated Navigation Areas; Harbor Entrances Along the Coast of Northern California

AGENCY: Coast Guard, DHS.

ACTION: Request for comments.

SUMMARY: The Coast Guard requests public comments on the potential establishment of Regulated Navigation Areas (RNAs) at the harbor entrance bars to Crescent Harbor, Humboldt Bay, Noyo River, and Morro Bay. In order to mitigate potential hazards and provide transparent communication with all mariners during hazardous weather conditions, this proposed RNA regulation would provide predictable protocols to mariners for potential restriction to traffic and conditions that prohibit vessels from entering a specified area surrounding each bar during hazardous weather conditions unless authorized by Commander, District Eleven or a designated representative. We seek your comments on what you believe to be the potential benefit or possible negative impact if we were to establish RNAs at these harbor entrances. We welcome all suggestions, ideas, and solutions for maintaining mariner and vessel safety during adverse weather and sea conditions at these harbor entrances.

DATES: Your comments and related material must reach the Coast Guard on or before March 12, 2018.

ADDRESSES: You may submit comments identified by docket number USCG-2017-0338 using the Federal portal at http://www.regulations.gov. See the “Public Participation and Request for Comments” portion of the SUPPLEMENTARY INFORMATION section for further instructions on submitting comments.

FOR FURTHER INFORMATION CONTACT: If you have questions about this notice of inquiry, call or email Lieutenant Colleen Ryan, Coast Guard District Eleven, Waterways Management; telephone 510-437-5984, email Colleen.M.Ryan@uscg.mil.

SUPPLEMENTARY INFORMATION:

I. Table of Abbreviations

CFR Code of Federal Regulations

COTP Captain of the Port

DHS Department of Homeland Security

FR Federal Register

RNA Regulated Navigation Area

U.S.C. United States Code

§ Section Symbol

II. Background and Purpose

Since 1998 COTP San Francisco and COTP Los Angeles/Long Beach (LA/LB) have issued various navigation safety advisories and created numerous emergency safety zones to mitigate risk to mariners and their vessels transiting the Crescent Harbor, Humboldt Bay, Noyo River, and Morro Bay harbor entrances during hazardous bar conditions. These emergency safety zones promulgated policies and procedures for closing the bar to vessel traffic, while also providing parameters and procedures for waiver requests. The use and application of emergency safety zones to accomplish the required risk mitigation does not provide advance notice, consistency, or predictability of Coast Guard actions to mariners; nor do safety zones allow for the promulgation of additional safety requirements to mitigate risk of necessary transits of the harbor bars. The RNAs under consideration would define the parameters and implementation procedures for restricting access to the applicable areas during hazardous conditions and define safety requirements for vessels operating within the RNAs.

The current protocols for restricting traffic in the vicinity of the Crescent City, Humboldt Bay, Noyo River, and Morro Bay harbor bar entrances are insufficient and do not provide consistency and predictability to the mariner, or allow for the establishment of bar crossing safety measures. The existing warning promulgation process is comprised of emergency safety zone implementation which, due to the emergent nature of heavy weather does not allow for advance notice and does not adequately ensure the safety of persons and vessels operating in those areas during heavy weather. Bars along the northern California coast experience severe wave, sea, and current conditions similar to the conditions that have contributed to various marine casualties along the northern Pacific coast. Coast Guard and National Transportation Safety Board (NTSB) casualty investigations identified a need for specific regulations to mitigate these risks to ensure the safety of the mariners and vessels operating in the vicinity of bars (see NTSB, Safety Recommendation M-05-009 at http://www.ntsb.gov/investigations/AccidentReports/_layouts/ntsb.recsearch/Recommendation.asp:Rec=M-05-009).

On October 17, 2005, in a written response to the NTSB M-05-009 recommendation, the Coast Guard articulated its intention to develop written policies for transiting west coast bars and inlets. We consider access restrictions within a defined RNA to be the best method to ensure mariner and vessel safety when adverse weather and sea conditions make crossing the bar at harbor entrances especially dangerous. In November 2009, the Thirteenth Coast Guard District published a final rule (74 FR 59098, Nov. 17, 2009) to mitigate bar transit risks that addressed NTSB recommendations M-05-009 and M-05-010. The Eleventh Coast Guard District is considering drafting a proposal for a rule similar to 33 CFR 165.1325 to provide predictability to local mariners regarding restrictions on navigation in the vicinity of Crescent City, Humboldt Bay, Noyo River, and Morro Bay harbor bar entrances based on weather, sea, tide, and river conditions. Such a regulation would establish predictable sea and weather conditions that will set a “Go/No-go” standard for restricting recreational, commercial fishing, and passenger vessel access to the RNA.

III. Information Requested

Through this request for information, the Coast Guard seeks comments and information for agency consideration and to inform any future establishment of RNAs that would create bar closure conditions as well as regulate vessel bar transits during hazardous bar conditions for all recreational, commercial fishing, and passenger vessels. The Coast Guard requests and encourages open discussion and candid feedback on the possibility of establishing RNAs for Crescent City, Humboldt Bay, Noyo River, and Morro Bay harbor bar entrances. The following considerations warrant special attention:

• Weather and sea conditions at the bars that the maritime community considers a risk to safe navigation for recreational vessels, passenger vessels, fishing vessels and deep draft vessel;

• The economic impact of bar closures and restrictions on the maritime community; and

• Preferred methods of notification for bar restrictions and closures.

IV. Public Participation and Request for Comments

We encourage you to submit comments through the Federal portal at http://www.regulations.gov. If your material cannot be submitted using http://www.regulations.gov, contact the person in the FOR FURTHER INFORMATION CONTACT section of this document for alternate instructions. In your submission, please include the docket number for this notice of inquiry and provide a reason for each suggestion or recommendation.

We accept anonymous comments. All comments received will be posted without change to http://www.regulations.gov and will include any personal information you have provided. For more about privacy and the docket, visit http://www.regulations.gov/privacyNotice.

All public comments will be available in our online docket at http://www.regulations.gov and can be viewed by following that website's instructions.

This document is issued under authority of 33 U.S.C. 1231.

Dated: February 1, 2018.
James B. Pruett,
Captain, U.S. Coast Guard, Acting Commander, Eleventh Coast Guard District.

[FR Doc. 2018-02503 Filed 2-7-18; 8:45 am]

BILLING CODE 9110-04-P